ENVIRONMENTAL PROTECTION AGENCY

[EPA-HQ-OPP-2014-0002; FRL-9908-91]

SFIREG POM and EQI Committees; Notice of Public Meeting

AGENCY: Environmental Protection Agency (EPA).

ACTION: Notice.

SUMMARY: The Association of American Pesticide Control Officials (AAPCO)/State FIFRA Issues Research and Evaluation Group (SFIREG), Environmental Quality Issues (EQI) Committee) and the Pesticide Operations and Management (POM) Committee will hold 2-day meetings, beginning on May 12, 2014 and ending May 13, 2014. This notice announces the location and times for the meeting and sets forth the tentative agenda topics.

DATES: The meeting will be held on Monday, May 12, 2014, from 8:30 a.m. to 5:00 p.m. and 8:30 a.m. to 12 noon on Tuesday, May 13, 2014. To request accommodation of a disability, please contact the person listed under FOR FURTHER INFORMATION CONTACT, preferably at least 10 days prior to the meeting, to give EPA as much time as possible to process your request.

ADDRESSES: The meeting will be held at: EPA, One Potomac Yard (South Bldg.), 4th Floor, South Conference Room, 2777 Crystal Dr., Arlington, VA.

FOR FURTHER INFORMATION CONTACT: Ron Kendall, Field External Affairs Division, Office of Pesticide Programs, Environmental Protection Agency, 1200 Pennsylvania Ave. (7506P), NW., Washington, DC 20460-0001; telephone number: (703) 305-5561; fax number: (703) 305-5884; email address: kendall.ron@epa.gov. or Grier Stayton, SFIREG Executive Secretary, P.O. Box 466, Milford, DE 19963; telephone number (302) 422-8152; fax (302) 422-2435; email address: Grier Stayton at aapco-sfireg@comcast.net.

SUPPLEMENTARY INFORMATION:

I. General Information

A. Does this action apply to me?

You may be potentially affected by this action if you are interested in pesticide regulation issues affecting States and any discussion between EPA and SFIREG on FIFRA field implementation issues related to human health, environmental exposure to pesticides, and insight into EPA's decision-making process. You are invited and encouraged to attend the meetings and participate as appropriate. Potentially affected entities may include, but are not limited to:

Those persons who are or may be required to conduct testing of chemical substances under the Federal Food, Drug and Cosmetics Act (FFDCA), or the Federal Insecticide, Fungicide, and Rodenticide Act (FIFRA) and those who sell, distribute or use pesticides, as well as any Non Government Organization.

If you have any questions regarding the applicability of this action to a particular entity, consult the person listed under FOR FURTHER INFORMATION CONTACT.

B. How can I get copies of this document and other related information?

The docket for this action, identified by docket ID number EPA-HQ-OPP-2014-0002 is available at http://www.regulations.gov, or at the Office of Pesticide Programs, Regulatory Public Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Tentative Agenda Topics

1. Sub-Group Pollinator Protection Discussions Related to Incidents, Documentation and Impacts.

2. Formation of a compost joint sub-group, Label Questions, Laboratory Methods, especially Analytical Methods and Guideline Development.

3. Drift-Specific bad label language; National Association of State Departments of Agriculture Support.

4. EPA explanation of Pesticide Registration Improvement Act 3- Conditional Registration vs. Notification.

5. Project Officer Training Update.

6. Worker Protection Standard Use Inspections.

7. Cover Crop Issues.

8. Nutrient Management Issues.

9. Marijuana, illegal pesticide use, Possible 24c's.

10. Endangered Species Act Update.

11. 25b Workgroup Next Steps.

12. National Pesticide Information Center Grant Update.

13. Fumigant Stakeholder Sub-Committee Progress.

14. NIOSH Sensor Data for Pesticides.

15. Air Sensor Development Applicability to Pesticide Monitoring.

III. How can I request to participate in this meeting?

This meeting is open for the public to attend. You may attend the meeting without further notification.

List of Subjects

Environmental protection.

Dated: April 10, 2014.
Brian Frazer,
Director, Field External Affairs Division, Office of Pesticide Programs.

[FR Doc. 2014-09246 Filed 4-22-14; 8:45 am]

BILLING CODE 6560-50-P